ENVIRONMENTAL PROTECTION AGENCY

40 CFR Part 271

[FRL-6543-6]

Missouri: Final Authorization of State Hazardous Waste Management Program Revisions

AGENCY: Environmental Protection Agency (EPA).

ACTION: Proposed rule.

SUMMARY: Missouri has applied to EPA for final authorization of the changes to its hazardous waste program under the Resource Conservation and Recovery Act (RCRA). EPA proposes to grant final authorization to Missouri. In the “Rules and Regulations” section of this Federal Register, EPA is authorizing the changes by an immediate final rule. EPA did not make a proposal prior to the immediate final rule because we believe this action is not controversial and do not expect opposing comments. We have explained the reasons for this authorization in the preamble to the immediate final rule. Unless we get written comments which oppose this authorization during the comment period, the immediate final rule will become effective on the date it establishes, and we will not take further action on this proposal. If we get comments that oppose this action, we will withdraw the immediate final rule and it will not take effect. We will then respond to public comments in a later final rule based on this proposal. You may not have another opportunity for comment. If you want to comment on this action, you must do so at this time.

DATES: Written comments must be received on or before March 29, 2000.

ADDRESSES: Send written comments to Heather Hamilton, U.S. EPA Region VII, ARTD/RESP, 901 N. 5th Street, Kansas City, Kansas 66101; (913) 551-7039. Copies of the Missouri program revision applications and the materials which EPA used in evaluating the revisions are available for inspection and copying during normal business hours at the following address: Hazardous Waste Program, Missouri Department of Natural Resources, P.O. Box 176, Jefferson City, Missouri 65102-0176; (573) 751-3176.

FOR FURTHER INFORMATION CONTACT: Heather Hamilton, U.S. EPA Region VII, ARTD/RESP, 901 N. 5th Street, Kansas City, Kansas 66101; (913) 551-7039.

SUPPLEMENTARY INFORMATION: For additional information see the immediate final rule published in the “Rules and Regulations” section of this Federal Register.

Dated: February 17, 2000.
William Rice,
Acting Regional Administrator, Region 7.

[FR Doc. 00-4651 Filed 2-25-00; 8:45 am]

BILLING CODE 6560-50-P